DEPARTMENT OF LABOR

Employment and Training Administration

[TA-W-54,027]

St. George Crystal, Jeannette, PA; Notice of Termination of Investigation

Pursuant to section 221 of the Trade Act of 1974, as amended, an investigation was initiated on January 15, 2004 in response to a worker petition filed by a company official on behalf of workers at St. George Crystal, Jeannette, Pennsylvania.

The petitioner has requested that the petition be withdrawn. Consequently, the investigation has been terminated.

Signed at Washington, DC, this 2nd day of February, 2004.
Elliott S. Kushner,
Certifying Officer, Division of Trade Adjustment Assistance.

[FR Doc. 04-3565 Filed 2-18-04; 8:45 am]

BILLING CODE 4510-30-P